NUCLEAR REGULATORY COMMISSION

Appointments to Performance Review Boards for Senior Executive Service

AGENCY: Nuclear Regulatory Commission.

ACTION: Appointment to performance review boards for senior executive service.

SUMMARY: The Nuclear Regulatory Commission (NRC) has announced the following appointments to the NRC Performance Review Boards.

The following individuals are appointed as members of the NRC Performance Review Board (PRB) responsible for making recommendations to the appointing and awarding authorities on performance appraisal ratings and performance awards for Senior Executives and Senior Level Service members:

Patricia G. Norry, Deputy Executive Director for Management Services

Stephen G. Burns, Deputy General Counsel, Office of the General Counsel

Samuel J. Collins, Director, Office of Nuclear Reactor Regulation

Margaret V. Federline, Deputy Director, Office of Nuclear Regulatory Research

Jesse L. Funches, Chief Financial Officer

Jon R. Johnson, Associate Director for Inspection and Programs, Office of Nuclear Reactor Regulation

William F. Kane, Director, Office of Nuclear Material Safety and Safeguards

Arnold E. Levin, Director, Applications Development Division, Office of the Chief Information Officer

Paul H. Lohaus, Director, Office of State Programs

Hubert J. Miller, Regional Administrator, Region I

Carl J. Paperiello, Deputy Executive Director for Materials, Research and State Programs, Office of the Executive Director for Operations

The following individuals will serve as members of the NRC PRB Panel that was established to review appraisals and make recommendations to the appointing and awarding authorities for NRC PRB members:

Karen D. Cyr, General Counsel, Office of the General Counsel

Frank J. Miraglia, Jr., Deputy Executive Director for Regulatory Programs

Ashok C. Thadani, Director, Office of Nuclear Regulatory Research

All appointments are made pursuant to Section 4314 of Chapter 43 of Title 5 of the United States Code.

EFFECTIVE DATE: March 23, 2000.

FOR FURTHER INFORMATION CONTACT: Carolyn J. Swanson, Secretary, Executive Resources Board, U.S. Nuclear Regulatory Commission, Washington, DC 20555, (301) 415-7530.

For the Nuclear Regulatory Commission.
Dated at Rockville, Maryland, this 16th day of March 2000.
Carolyn J. Swanson,
Secretary, Executive Resources Board.

[FR Doc. 00-7245 Filed 3-22-00; 8:45 am]

BILLING CODE 7590-01-P